DEPARTMENT OF THE INTERIOR

Fish and Wildlife Service

[FWS-R4-R-2008-N0065; 40136-1265-0000-S3]

Upper Ouachita and Handy Brake National Wildlife Refuges and the Louisiana Wetlands Management District

AGENCY: Fish and Wildlife Service, Department of the Interior.

ACTION: Notice of Availability of the Draft Comprehensive Conservation Plan and Environmental Assessment for Upper Ouachita and Handy Brake National Wildlife Refuges and the Louisiana Wetlands Management District.

SUMMARY: The Fish and Wildlife Service announces that a Draft Comprehensive Conservation Plan and Environmental Assessment (Draft CCP/EA) for Upper Ouachita and Handy Brake National Wildlife Refuges and the Louisiana Wetlands Management District in Morehouse, Union, Richland, East Carroll, West Carroll, Natchitoches, and Grant Parishes, Louisiana, is available for distribution. This Draft CCP/EA was prepared pursuant to the National Wildlife Refuge System Improvement Act of 1997, and the National Environmental Policy Act of 1969. The Draft CCP/EA describes the Service's proposal for management of these refuges and the wetlands management district over the next 15 years.

DATES: Written comments must be received at the postal address listed below no later than April 21, 2008.

ADDRESSES: To provide written comments or to obtain a copy of the Draft CCP/EA please write to: Ms. Tina Chouinard, Refuge Planner, North Louisiana National Wildlife Refuge Complex, 11372 Highway 143, Farmerville, Louisiana 71241; Telephone: 318/305-0643. The Draft CCP/EA may also be accessed and downloaded from the Service's Internet Web Site: http://southeast.fws.gov.planning.

FOR FURTHER INFORMATION CONTACT: Ms. Tina Chouinard, Refuge Planner, at Telephone: 318/305-0643; E-mail: Tina_Chouinard@fws.gov.

SUPPLEMENTARY INFORMATION: Public Availability of Comments: Before including your address, phone number, e-mail address, or other personal identifying information in your comment, you should be aware that your entire comment, including your personal identifying information, may be made publicly available at any time. While you can ask us in your comments to withhold your personal identifying information from public review, we cannot guarantee that we will be able to do so.

Background: The Upper Ouachita and Handy Brake National Wildlife Refuges and the Louisiana Wetlands Management District are units of the North Louisiana National Wildlife Refuge Complex. Upper Ouachita Refuge is in northeastern Louisiana. The northern boundary lies on the Louisiana-Arkansas State line. The refuge borders both sides of the Ouachita River, running north-south for 13.7 miles and extending 3.3 miles to the east and 16 miles to the west. The southernmost point on the refuge is approximately 20 miles north of Monroe, Louisiana. The current acquisition area encompasses 61,633 acres of which 42,594 acres have been purchased, with 26,304 acres in Union Parish and 16,290 acres in Morehouse Parish.

Upper Ouachita Refuge was established in November 1978. The federally legislated purposes are “for use as an inviolate sanctuary, or for any other management purpose, for migratory birds” (Migratory Bird Conservation Act, 16 U.S.C. 715d); and for “* * * the conservation of the wetlands of the nation in order to maintain the public benefits they provide and to help fulfill international obligations contained in various migratory bird treaties and conventions * * *” (16 U.S.C. 3901 (b)). The refuge consists of 4,540 acres of pine and pine/hardwood mix, 19,767 acres of bottomland hardwood forests, 9,236 acres of reforested bottomlands, 2,000 acres of scrub/shrub, 1,182 acres of moist-soil plantings, 2,541 acres of agricultural fields, 682 acres of fallow agricultural fields, and 2,910 acres of open water.

The Louisiana Wetlands Management District was established in 1990, in response to growing Fish and Wildlife Service land-based responsibilities off of traditional refuges. The Wetlands Office is responsible for the administration of wetland easements and fee title land transfers from the USDA Farm Service Agency “* * * for conservation purposes * * *.” (Consolidated Farm and Rural Development Act, 7 U.S.C. 2002). The wetlands management district includes the first fee title tract transfer from the USDA Farm Service Agency to the Fish and Wildlife Service with the establishment of Handy Brake National Wildlife Refuge in 1988. The wetlands management district includes 36 USDA Farm Service Agency easements, 7 fee title tracts, and 1 lease that are concentrated in northeastern Louisiana and encompass 6 parishes. The wetlands management district is spread across north Louisiana in 44 units, ranging in size from 3 acres to 1,000 acres.

Handy Brake Refuge is primarily a permanent wetland of excellent habitat for wintering waterfowl, wading birds, and many other wetland-dependent species. A free lease of 35 acres of International Paper Company land provides an upland area overlooking the wetland. An observation deck in the upland area provides wildlife viewing opportunities into the wetlands. Habitat management within the wetlands management district focuses primarily on reforestation of marginal agricultural areas and development and maintenance of moist-soil units. These varied habitats provide for a diverse array of wildlife. There is no hunting or fishing permitted throughout the wetlands management district.

Significant issues addressed in this Draft CCP/EA include: management of white-tailed deer, invasive species, waterfowl, bottomland hardwood forest, and red-cockaded woodpecker, refuge access, land acquisition, visitor services (e.g., hunting, fishing, wildlife observation, wildlife photography, and environmental education and interpretation), watershed protection, and cultural resource protection. The Service developed three alternatives for management of the refuge (Alternatives A, B, and C), with Alternative B as the Service's proposed alternative.

Alternative A (Current Management)

Current management and public use would continue under this alternative. Refuge management programs would continue to be developed and implemented with limited baseline biological information and limited monitoring, for mainly migratory waterfowl. Wildlife surveys would still be completed for presence and absence of species and to alert refuge staff to large-scale changes in population trends. Cooperation with partners for monitoring waterfowl, eagle, fish, and deer herd health surveys would continue. Upland forest management would continue focusing on red-cockaded woodpecker guidelines for minimizing hardwoods and maintaining a grassy understory in a portion of the mixed pine and upland forests. Bottomland hardwood forest management would continue at current rate of thinning to maintain a closed canopy forest and retain as much water tupelo and bald cypress as possible. The open fields would continue with manipulating water levels for moist-soil and cooperative cropland management. Management of invasive species would continue with opportunistic treatment and mapping. Partnerships would continue with Louisiana Department of Wildlife and Fisheries for several biological programs, hunting regulations, and law enforcement issues. A Partners program would still work with interested parties to develop projects for carbon sequestration and invasive species.

Hunting and fishing would continue to be the priority focus of public use on Upper Ouachita Refuge, with no expansion of current opportunities. Current restrictions or prohibitions would remain. Environmental education, wildlife observation, and wildlife photography would be accommodated at present levels, with a few interpretive sites added. Staffing would remain at current level with no new positions added, but current vacancies would be advertised and filled.

Alternative B (Proposed Action)

The biological potential of historical habitats would be restored and enhanced. Most management actions would emphasize natural ecological processes to foster habitat functions and wildlife populations. The biological program would be enhanced with inventories and monitoring so that adaptive management could be implemented primarily for migratory birds, but for other species of wildlife as well. A close evaluation of migratory bird use and nesting success on the refuge would be evaluated with granting opportunities and partnerships. Partnerships would be developed to establish scientifically, valid protocols and collaboratively work on research projects associated with information needed to manage the habitats and wildlife, or in other words how forest management is affecting wildlife. Upland forest management would focus on restoring the biological integrity of a mixed hardwood/pine forest by promoting upland hardwood species and reducing pine basal area. The red-cockaded woodpecker habitat unit would be managed using a more historic fire regime while providing red-cockaded woodpecker habitat as required in the recovery guidelines. An historic fire regime would ultimately benefit red-cockaded woodpeckers by creating a more herbaceous understory. A forest inventory defining current conditions would be conducted to implement bottomland hardwood forest management. Bottomlands would have management increased to open the canopy cover and increase understory vegetation. Water control structures and pumping capability would be improved to enhance moist-soil and cropland management for the benefit of wintering waterfowl. Invasive species would be mapped and protocols for control established with the addition of a forester. Partnerships would continue to be fostered for several biological programs, hunting regulations, law enforcement issues, and research projects.

Public use would be similar to current management with a few improvements. Deer harvests would rely on monitoring results of the availability, diversity, and deer use of understory woody and herbaceous plants and deer herd health checks. This would allow the refuge to better understand the pressure being exerted on the habitat, and therefore make better habitat and harvest recommendations. On Upper Ouachita Refuge, youth turkey hunting would be allowed, and fishing events and boat launch facilities would be improved. Environmental education, wildlife observation, and wildlife photography would be accommodated at present levels with minimal disturbance to wildlife and habitat with an enhanced interpretive nature trail, interpretive panels, and “check-out kits” for teachers developed. Law enforcement would be increased to gain better compliance with refuge regulations. Staffing would increase with four positions (e.g., biological technician, forestry technician, one maintenance worker, and one law enforcement) to increase biological inventory and monitoring, enhance forest management, increase control of invasive species, enhance public use program, and provide safe and compatible wildlife-dependent recreation.

Alternative C (Minimize Management and Public Use)

This alternative would reduce the habitat and wildlife management and public use programs. Biological information would continue to be enhanced but management programs would be implemented less frequently, yet the refuge would still strive to accomplish the objectives. Extensive baseline inventory and monitoring programs would be conducted with several partners to provide a solid foundation of current conditions of refuge habitat and wildlife, while monitoring for changes in trends. Additional research projects would be implemented in the alternative by gaining granting opportunities and partnerships with other agencies and universities. Upland forest management would focus on red-cockaded woodpecker guidelines for minimizing hardwoods and maintaining a grassy understory in the entire mixed pine and upland forests, resulting in an intensive prescribed burning program which would include monitoring forest conditions. Bottomland hardwood forest management would be developed, using an intensive inventory to define current conditions and to monitor natural successional changes. Management in the bottoms would be limited to promote natural succession, as defined in a revised habitat management plan. The open field would be allowed to go through natural succession to a bottomland hardwood forest and the moist-soil units would not be maintained. Management of invasive species would become a priority to establish baseline information on location, density, and protocols for control. Partnerships would continue to be fostered for several biological programs, hunting regulations, law enforcement issues, and research projects.

Public use would be limited, with custodial-level maintenance. Public use would be monitored more closely for impacts to wildlife, and with negative impacts, new restrictions or closures would result. Deer hunting would be allowed when data demonstrated the population was exceeding the habitat carrying capacity, indicating that a reduction was necessary. Monitoring of the deer population and associated habitat conditions would be implemented. Several species, such as quail, woodcock, feral hog, and coyote, would no longer be hunted. Fishing would continue as under the current management alternative, but the open field would be closed to fishing during the wintering period and would be monitored for future impacts. Environmental education, wildlife observation, and wildlife photography would be accommodated at present levels but access limited to July-October and February-April to minimize disturbance to migratory birds. Staffing would increase with four positions (e.g., biologist, forestry technician, and two maintenance workers) to handle the increase in biological inventory and monitoring, invasive species control, and a fire program associated with implementing the red-cockaded woodpecker guidelines.

Authority: This notice is published under the authority of the National Wildlife Refuge System Improvement Act of 1997, Public Law 105-57.

Dated: October 29, 2007.
Cynthia K. Dohner,
Acting Regional Director.

Editorial Note: This document was received at the Office of the Federal Register on March 18, 2008.

[FR Doc. E8-5717 Filed 3-20-08; 8:45 am]

BILLING CODE 4310-55-P